DEPARTMENT OF DEFENSE

Office of the Secretary

[Transmittal No. 25-1D]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1D.

Dated: February 4, 2026.
Stephanie J. Bost,
Alternate OSD Federal Register Liaison Officer, Department of Defense.

BILLING CODE 6001-FR-P

BILLING CODE 6001-FR-C

Transmittal No. 25-1D

REPORT OF ENHANCEMENT OR UPGRADE OF SENSITIVITY OF TECHNOLOGY OR CAPABILITY (SEC. 36(B)(5)(C), AECA)

(i) Prospective Purchaser: Government of Bahrain

(ii) Sec. 36(b)(1), AECA Transmittal No.: 18-07

Date: July 26, 2018

Implementing Agency: Navy

Funding Source: National Funds

(iii) Description: On July 26, 2018, Congress was notified by congressional certification transmittal number 18-07 of the possible sale under Section 36(b)(1) of the Arms Export Control Act of items and services in support of Follow-On Technical Support (FOTS) for the Royal Bahrain Navy Ship SABHA (FFG-90), formerly USS Jack Williams (FFG-24), transferred as Excess Defense Articles on September 13, 1996. Also included were engineering, technical, and logistics services, documentation, and modification material for United States (U.S.) Navy supplied systems and equipment and other related elements of logistics and programs support. The estimated total cost was $70 million. There was no Major Defense Equipment (MDE) associated with this sale.

This transmittal notifies Congress of the inclusion of the following non-MDE: items and services in support of follow-on technical support (FOTS) for various vessels consisting of three classes of Royal Bahrain Navy ships and vessels transferred as excess defense articles from the U.S. Navy to the Bahrain Navy. The following are also included: engineering, technical, and logistics services; documentation; modification material for U.S. Navy supplied systems and equipment; and other related elements of logistics and programs support. The estimated total cost of the new items is $430 million. The estimated total case value will increase by $430 million to a revised $500 million. There is no MDE associated with this sale.

(iv) Significance: This notification is being provided as the additional non-MDE items were not enumerated in the original notification. The inclusion of these items represents an increase in capability over what was previously notified. The proposed sale will support Bahrain's defense by maintaining the operational readiness of Bahrain navy ships.

(v) Justification: This proposed sale will support the foreign policy goals and national security objectives of the U.S. by improving the security of a major non-NATO ally that is an important force for political stability and economic progress in the Middle East.

(vi) Date Report Delivered to Congress: November 24, 2025

[FR Doc. 2026-02397 Filed 2-5-26; 8:45 am]

BILLING CODE 6001-FR-P